DEPARTMENT OF AGRICULTURE

Agency Information Collection Activities: Proposed Collection; Comment Request—Generic Clearance for the Development of Nutrition Education Messages and Products for the General Public

AGENCY: Center for Nutrition Policy and Promotion (CNPP), USDA.

ACTION: Notice.

SUMMARY: In accordance with the Paperwork Reduction Act of 1995, this notice invites the general public and other public agencies to comment on a proposed information collection. This is an extension of a currently approved collection. Burden hours and total number of responses have not changed. This notice announces the Center for Nutrition Policy and Promotion's (CNPP) intention to request the Office of Management and Budget's approval of the information collection processes and instruments to be used during consumer research while testing nutrition education messages and products developed for the general public. The purpose of performing consumer research is to identify consumers' understanding of potential nutrition education messages and obtain their reaction to prototypes of nutrition education products, including Internet based tools. The information collected will be used to refine messages and improve the usefulness of products as well as aid consumer understanding of current Dietary Guidelines for Americans and related materials (OMB No.: 0584-0523, Expiration Date 1/31/2016).

DATES: Written comments must be submitted on or before October 26, 2015 to be assured consideration.

ADDRESSES: Comments are invited on (a) Whether the proposed collection of information is necessary for the proper performance of the functions of the agency, including whether the information will have practical utility; (b) the accuracy of the agency's estimate of the burden of the proposed collection of information, including the validity of the methodology and assumptions used; (c) ways to enhance the quality, utility and clarity of the information collected; and (d) ways to minimize the burden of the collection of information on those who are to respond, including the use of appropriate automated, electronic, mechanical, or other technological collection techniques or other forms of information technology.

Comments may be sent to Dietary Guidelines Communications, Center for Nutrition Policy and Promotion, U.S. Department of Agriculture, 3101 Park Center Drive, Room 1034, Alexandria, VA 22302. Comments may also be submitted via fax to the attention of Dietary Guidelines Communications at 703-305-3300 or through the Federal eRulemaking Portal at http://www.regulations.gov. Follow the online instructions for submitting comments electronically.

All written comments will be open for public inspection during regular business hours (8:30 a.m. to 5:00 p.m., Monday through Friday) at the Center for Nutrition Policy and Promotion's main office located at 3101 Park Center Drive, Room 1034, Alexandria, Virginia 22302.

All responses to this notice will be summarized and included in the request for Office of Management and Budget approval. All comments will also become a matter of public record.

FOR FURTHER INFORMATION CONTACT: Requests for additional information should be directed to Dietary Guidelines Communications at 703-305-7600 or email dietaryguidelines@cnpp.usda.gov.

SUPPLEMENTARY INFORMATION:

Title: Generic Clearance for the Development of Nutrition Education Messages and Products for the General Public.

OMB Number: 0584-0523.

Expiration Date: January 31, 2016.

Type of Request: Extension of a currently approved information collection.

Abstract: The Center for Nutrition Policy and Promotion (CNPP) of the U.S. Department of Agriculture (USDA) conducts consumer research to identify key issues of concern related to the understanding and use of the Dietary Guidelines for Americans as well as the effort and tools used to help implement the Dietary Guidelines. The mission of CNPP is to improve the health and well-being of Americans by developing and promoting dietary guidance that links scientific research to the nutrition needs of consumers.

The Dietary Guidelines are issued jointly by the Secretaries of USDA and Health and Human Services (HHS) every five years (the National Nutrition Monitoring and Related Research Act of 1990 [7 U.S.C. 5341]). The Dietary Guidelines serve as the cornerstone of Federal nutrition policy and form the basis for nutrition education efforts (nutrition messages and development of consumer materials) for these agencies. The Dietary Guidelines for Americans provides advice for making food and physical activity choices that help promote good health, a healthy weight, and help prevent disease.

The Dietary Guidelines for Americans includes USDA Food Pattern recommendations about what and how much to eat. To communicate the Dietary Guidelines for Americans, USDA established a comprehensive communications initiative which includes the MyPlate icon; a Web site designed for professionals and consumers, ChooseMyPlate.gov; and a variety of professional and consumer resources. The MyPlate icon emphasizes the five food groups to remind Americans to eat more healthfully. Activities to promote the Dietary Guidelines are critical to CNPP's mission, and fulfill requirements of the Government Performance and Results Act of 1993 (31 U.S.C. 9701).

Information collected from consumer research will be used to further develop the Dietary Guidelines and related communications. These may include: (1) Messages and products that help general consumers make healthier food and physical activity choices; (2) Additions and enhancements to ChooseMyPlate.gov; and (3) Resources for special population groups that might be identified. USDA is working closely in collaboration with HHS in the current Dietary Guidelines revision cycle for producing the 2015 Dietary Guidelines for Americans. With the potential for revised or new recommendations, the possibility for developing new messages, materials and tools exists. CNPP has among its major functions the development and coordination of nutrition policy within USDA and is involved in the investigation of techniques for effective nutrition communication. Under Subtitle D of the National Agriculture Research, Extension, and Teaching Policy Act of 1977 (7 U.S.C. 3171-3175), the Secretary of Agriculture is required to develop and implement a national food and human nutrition research and extension program, including the development of techniques to assist consumers in selecting food that supplies a nutritionally adequate diet.

Pursuant to 7 CFR 2.19(a)(3), the Secretary of Agriculture has delegated authority to CNPP for, among other things, developing materials to aid the public in selecting food for good nutrition; coordinating nutrition education promotion and professional education projects within the Department; and consulting with Federal and State agencies, Congress, universities, and other public and private organizations and the general public regarding food consumption and dietary adequacy.

The products for these initiatives will be tested using qualitative and possibly quantitative consumer research techniques, which may include focus groups (with general consumers or with specific target groups such as low-income consumers, children, older Americans, educators, students, etc.), interviews (i.e., intercept, individual, diads, triads, usability testing, etc.), and web-based surveys. Information collected from participants will be formative and will be used to improve the clarity, understandability, and acceptability of resources, messages and products. Information collected will not be nationally representative, and no attempt will be made to generalize the findings to be nationally representative or statistically valid.

Affected Public: Individuals and Households.

Estimated Number of Respondents: 57,000.

Estimated Number of Responses per Respondent: One.

Estimated Time per Response: 12.63 minutes.

Estimated Total Annual Burden on Respondents: 12,004 hours.

Estimated Burden Hours

Testing instrument | Estimated number of individual respondents | Number of responses per respondent | Estimated total annual responses per respondent | Estimated time per response in hours | Estimated total annual burden in hours
Focus Group Screeners | 7,500 | 1 | 7,500 | .25 | 1,875
Interview Screeners | 7,500 | 1 | 7,500 | .25 | 1,875
Focus Groups | 500 | 1 | 500 | 2 | 1,000
Interviews | 500 | 1 | 500 | 1 | 500
Web-based Collections | 20,000 | 1 | 20,000 | .25 | 5,000
Confidentiality Agreement | 21,000 | 1 | 21,000 | .08 | 1,753.50
Total | 57,000 |  | 57,000 | 3.83 | 12,003.50

The total estimated annual burden is 12,003.50 hours and 57,000 responses. Current estimates are based on both historical numbers of respondents from past projects as well as estimates for projects to be conducted in the next three years.

Dated: August 12, 2015.
Angela Tagtow,
Executive Director, Center for Nutrition Policy and Promotion, U.S. Department of Agriculture.

[FR Doc. 2015-20922 Filed 8-24-15; 8:45 am]

BILLING CODE 3410-30-P